DEPARTMENT OF HOUSING AND URBAN DEVELOPMENT

[Docket No. FR-4809-N-25]

Federal Property Suitable as Facilities To Assist the Homeless

AGENCY: Office of the Assistant Secretary for Community Planning and Development, HUD.

ACTION: Notice.

SUMMARY: This notice identifies unutilized, underutilized, excess, and surplus Federal property reviewed by HUD for suitability for possible use to assist the homeless.

FOR FURTHER INFORMATION CONTACT: Mark Johnston, room 7266, Department of Housing and Urban Development, 451 Seventh Street, SW., Washington, DC 20410; telephone (202) 708-1234; TTY number for the hearing- and speech-impaired (202) 708-2565 (these telephone numbers are not toll-free), or call the toll-free title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Shirley Kramer, Division of Property Management, Program Support Center, HHS, room 5B-41, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a notice showing it as either suitable/available or suitable/unavailable.

For properties listed as suitable/unavailable, the landholding agency has decided that the property cannot be declared excess or made available for use to assist the homeless, and the property will not be available.

Properties listed as unsuitable will not be made available for any other purpose for 20 days from the date of this notice. Homeless assistance providers interested in a review by HUD of the determination of unsuitability should call the toll free information line at 1-800-927-7588 for detailed instructions or write a letter to Mark Johnston at the address listed at the beginning of this notice. Included in the request for review should be the property address (including zip code), the date of publication in the Federal Register, the landholding agency, and the property number.

For more information regarding particular properties identified in this notice (i.e., acreage, floor plan, existing sanitary facilities, exact street address), providers should contact the appropriate landholding agencies at the following addresses: Agriculture: Ms. Marsha Pruitt, Department of Agriculture, Reporters Building, 300 7th Street, SW., Room 310B, Washington, DC 20250; (202) 720-4335; GSA: Mr. Brian K. Polly, Assistant Commissioner, General Services Administration, Office of Property Disposal, 18th and F Streets, NW., Washington, DC 20405; (202) 501-0052; Interior: Ms. Linda Tribby, Acquisition & Property Management, Department of the Interior, 1849 C Street, NW., MS5512, Washington, DC 20240; (202) 219-0728; Navy: Mr. Charles C. Cocks, Director, Department of the Navy, Real Estate Policy Division, Naval Facilities Engineering Command, Washington Navy Yard, 1322 Patterson Ave., SE., Suite 1000, Washington, DC 20374-5065; (202) 685-9200; (these are not toll-free numbers).

Dated: May 12, 2003.
John D. Garrity,
Director, Office of Special Needs Assistance Programs.

TITLE V, FEDERAL SURPLUS PROPERTY PROGRAM FEDERAL REGISTER REPORT FOR 6/20/03

Suitable/Available Properties,

Buildings (by State)

Montana

Bldg. 1031

Red Lodge Ranger Station

Red Lodge Co: MT 59086-

Landholding Agency: Agriculture

Property Number: 15200320001

Status: Excess

Comment: 2753 sq. ft. residence, located on National Forest land, off-site use only.

Suitable/Unavailable Properties

Buildings (by State)

Florida

Federal Building

98 3rd St., SW

Winter Haven Co: Polk FL 33880-

Landholding Agency: GSA

Property Number: 54200320013

Status: Excess

Comment: 7335 sq. ft., existing lease GSA Number: 4-G-FL-1210.

Unsuitable Properties

Buildings (by State)

California

Bldg. IA25

Naval Weapons Station

Seal Beach

Concord Co: CA 94520-5100

Landholding Agency: Navy

Property Number: 77200320064

Status: Excess

Reason: Within 2000 ft. of flammable or explosive material.

Bldg. 263

Naval Weapons Station

Seal Beach

Concord Co: CA 94520-5100

Landholding Agency: Navy

Property Number: 77200320065

Status: Excess

Reason: Within 2000 ft. of flammable or explosive material.

Bldg. 3518/3512

Naval Weapons Station

Seal Beach

Concord Co: CA 94520-5100

Landholding Agency: Navy

Property Number: 77200320066

Status: Excess

Reason: Within 2000 ft. of flammable or explosive material.

New York

Bldgs/Pier/Field

USCG/Ft. Totten

Borough of Queens Co: Flushing NY

Landholding Agency: GSA

Property Number: 54200320015

Status: Surplus

Reason: Contamination

GSA Number: 1-U-NY-882.

Pennsylvania

Bldg. 619

Naval Surface Warfare Center

Philadelphia Co: PA 19112-

Landholding Agency: Navy

Property Number: 77200320063

Status: Excess

Reason: Within 2000 ft. of flammable or explosive material.

Washington

Residence No. 44

Lake Cle Elum Rd.

Ronald Co: Kittitas WA 98940-

Landholding Agency: Interior

Property Number: 61200320015

Status: Unutilized

Reason: Extensive deterioration.

Warehouse 104

Lake Cle Elum Rd.

Ronald Co: Kittitas WA 98940-

Landholding Agency: Interior

Property Number: 61200320016

Status: Unutilized

Reason: Extensive deterioration.

Garage No. 105

Lake Cle Elum Rd.

Ronald Co: Kittitas WA 98940-

Landholding Agency: Interior

Property Number: 61200320017

Status: Unutilized

Reason: Extensive deterioration.

Residence

Riverside Road

Yakima Co: WA 98901-

Landholding Agency: Interior

Property Number: 61200320018

Status: Unutilized

Reason: Extensive deterioration.

Detached Garage/Shop

Riverside Road

Yakima Co: WA 98901-

Landholding Agency: Interior

Property Number: 61200320019

Status: Unutilized

Reason: Extensive deterioration.

Detached Garage/Storage

Riverside Road

Yakima Co: WA 98901-

Landholding Agency: Interior

Property Number: 61200320020

Status: Unutilized

Reason: Extensive deterioration.

Storage Bldg.

Riverside Road

Yakima Co: WA 98901-

Landholding Agency: Interior

Property Number: 61200320021

Status: Unutilized

Reason: Extensive deterioration.

Michigan

Land/USCG

1380 Beach Street

Muskegon Co: MI 49441-

Landholding Agency: GSA

Property Number: 54200320014

Status: Excess

Reason: Within 2000 ft. of flammable or explosive material

GSA Number: 1-U-MI-0610.

[FR Doc. 03-15300 Filed 6-19-03; 8:45 am]

BILLING CODE 4210-29-M